SOCIAL SECURITY ADMINISTRATION

[Docket No. 2013-0049]

Elimination of the Social Security Administration's Letter Forwarding Service

AGENCY: Social Security Administration (SSA).

ACTION: Notice of discontinuation of the letter forwarding service.

SUMMARY: Letter Forwarding is a service we provided to the public since 1945. It is not a program related activity under the Social Security Act (Act). Therefore, we will stop the letter forwarding service.

DATES: The cessation date for letter forwarding services is May 19, 2014.

FOR FURTHER INFORMATION CONTACT: Esset Tate, Office of Public Service and Operations Support, Social Security Administration, 6401 Security Boulevard, Baltimore, MD 21235-6401, [410-966-8502].

SUPPLEMENTARY INFORMATION: We provided the letter forwarding service to the public since 1945. The inquirer can be an individual, private organization, or government agency. We provide limited service if it does not interfere with the Agency's ability to effectively and efficiently carry out its statutory responsibilities under the Act. SSA processes the following types of letter forwarding requests (free and for a fee).

• Humanitarian (free)—when the health or welfare of an individual is at risk and the requestor provides a compelling reason to show the person would want to be aware of the circumstances. In addition, when an immediate family member (e.g., parent, sibling) is seeking to re-establish contact with another immediate family member.

• Monetary purpose (fee $35 in fiscal year (FY) 2013)—situations in which the individual sought is due something of value, and it is reasonable to assume that he or she is not aware that the asset is due.

New Information: In recent years, the internet offers a rapid expansion of locator resources via free social media Web sites and for pay locator services. The public now has widespread access to the Internet and the ability to locate individuals without relying on our letter forwarding services. Based on the availability of the alternative locator resources and the effects it would be as a cost saving measure, we are discontinuing the letter forwarding service. This decision is in line with the Internal Revenue Service, which successfully eliminated part of its letter forwarding workload as of August 31, 2012.

Dated: April 11, 2014.
Esset Tate,
Project Manager, Office of Public Service and Operations Support.

[FR Doc. 2014-08808 Filed 4-16-14; 8:45 am]

BILLING CODE 4191-02-P